DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project on State Route 65, State Route 198 and State Route 245 from post miles 29.0-R30.4, R19.5-20.0 and 0.0-0.2 in Tulare County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before July 15, 2024. If the Federal law that authorizes judicial review of a claim provides a time period of less than 150 days for filing such claim, then that shorter time period still applies.

FOR FURTHER INFORMATION CONTACT: For Caltrans: Jason Adair, Acting Senior Environmental Scientist, 2015 East Shields Avenue, Suite 100, Fresno, California 93726, (559) 383-5939, jason.adair@dot.ca.gov, Mon.-Fri. 9:00 a.m.-5:00 p.m.

SUPPLEMENTARY INFORMATION: Effective July 1, 2007, the Federal Highway Administration (FHWA) assigned, and the California Department of Transportation (Caltrans) assumed, environmental responsibilities for this project pursuant to 23 U.S.C. 327. Notice is hereby given that the Caltrans, has taken final agency actions subject to 23 U.S.C. 139(l)(1) by issuing licenses, permits, and approvals for the following highway project in the State of California: Caltrans proposes to make operational improvements on State Route 65 from post miles 29.0 to R30.4, State Route 198 from post miles R19.5 to 20.0, and State Route 245 from post miles 0.0 to 0.2 in Tulare County.

The actions by the Federal agencies, and the laws under which such actions were taken, are described in the Final Environmental Assessment(FEA)/Finding of No Significant Impact (FONSI) for the project, approved on December 29, 2023, and in other documents in the project records. The FEA, FONSI, and other project records are available by contacting Caltrans at the address provided above.

This notice applies to all Federal agency decisions as of the issuance date of this notice and all laws under which such actions were taken, including but not limited to:

1. General: National Environmental Policy Act of 1969 (NEPA) [42 U.S.C. 4321-4335].

2. Air: Clean Air Act [23 U.S.C. 109(j) and 42 U.S.C. 7521(a)].

3. Wildlife: Federal Endangered Species Act [16 U.S.C. 1531-1543]; Fish and Wildlife Coordination Act [16 U.S.C. 661-666(C); Migratory Bird Treaty Act [16 U.S.C. 760c-760g].

4. Historic and Cultural Resources: Section 106 of the National Historic Preservation Act of 1966, as amended [16 U.S.C. 470(f) et seq.].

5. Wetlands and Water Resources: Clean Water Act [33 U.S.C. 1344].

6. Hazardous Waste: Comprehensive Environmental Response, Compensation and Liability Act [42 U.S.C. 103]; Resource Conservation and Recovery Act of 1976 [42 U.S.C. 6901 et seq.].

7. Social and Economic: NEPA implementation [23 U.S.C. 109(h)]; Civil Rights Act of 1964 [42 U.S.C. 2000(d)-2000(d)(1)].

8. Executive Orders: E.O. 12898 Federal Actions to Address Environmental Justice and Low-Income Populations; E.O. 11988 Floodplain Management.

(Catalog of Federal Domestic Assistance Program Number 20.205, Highway Planning and Construction. The regulations implementing Executive Order 12372 regarding intergovernmental consultation on Federal programs and activities apply to this program.)

Authority: 23 U.S.C. 139(l)(1).

Antonio Johnson,
Director of Planning, Environmental and Right of Way, Federal Highway Administration, California Division.

[FR Doc. 2024-03229 Filed 2-15-24; 8:45 am]

BILLING CODE 4910-RY-P